NATIONAL SCIENCE FOUNDATION

Notice of Permits Issued Under the Antarctic Conservation Act of 1978

AGENCY: National Science Foundation.

ACTION: Notice of permits issued under the Antarctic Conservation Act of 1978, Public Law 95541.

SUMMARY: The National Science Foundation (NSF) is required to publish notice of permits issued under the Antarctic Conservation Act of 1978. This is the required notice.

FOR FURTHER INFORMATION CONTACT: Nadene G. Kennedy, Permit Office, Office of Polar Programs, Rm. 755, National Science Foundation, 4201 Wilson Boulevard, Arlington, VA 22230.

SUPPLEMENTARY INFORMATION: On July 6, 2009, the National Science Foundation published a notice in the Federal Register of permit applications received. Permits were issued on August 17, 2009 to:

Wayne Z. Trivelpiece, Permit No. 2010-003;

Scott Borg, Permit No. 2010-005;

Mahlon C. Kennicutt, II, Permit No. 2010-006.

Nadene G. Kennedy,
Permit Officer.

[FR Doc. E9-20180 Filed 8-21-09; 8:45 am]

BILLING CODE 7555-01-P